DEPARTMENT OF HOMELAND SECURITY

Federal Emergency Management Agency

[Docket ID FEMA-2017-0002; Internal Agency Docket No. FEMA-B-1748]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 30, 2017.
Roy E. Wright,
Deputy Associate Administrator for Insurance and Mitigation, Department of Homeland Security, Federal Emergency Management Agency.

State and county | Location and case No. | Chief executive officer of community | Community map repository | Online location of letter of map revision | Effective date of modification | Community No.
Colorado:
Boulder | City of Louisville (17-08-0455P) | The Honorable Bob Muckle, Mayor, City of Louisville, 749 Main Street, Louisville, CO 80027 | City Hall, 749 Main Street, Louisville, CO 80027 | http://www.msc.fema.gov/lomc | Nov. 16, 2017 | 085076
Boulder | Town of Superior (17-08-0455P) | The Honorable Clint Folsom, Mayor, Town of Superior, 124 East Coal Creek Drive, Superior, CO 80027 | Town Hall, 124 East Coal Creek Drive, Superior, CO 80027 | http://www.msc.fema.gov/lomc | Nov. 16, 2017 | 085203
Boulder | Unincorporated areas of Boulder County (17-08-0455P) | The Honorable Deb Gardner, Chair, Boulder County Board of Commissioners, P.O. Box 471, Boulder, CO 80306 | Boulder County Transportation Department, 2525 13th Street, Suite 203, Boulder, CO 80304 | http://www.msc.fema.gov/lomc | Nov. 16, 2017 | 080023
Larimer | City of Fort Collins (17-08-0075P) | The Honorable Wade Troxell, Mayor, City of Fort Collins, P.O. Box 580, Fort Collins, CO 80522 | Utilities Department, 700 Wood Street, Fort Collins, CO 80521 | http://www.msc.fema.gov/lomc | Nov. 24, 2017 | 080102
Larimer | City of Loveland (16-08-1159P) | The Honorable Cecil Gutierrez, Mayor, City of Loveland, 500 East 3rd Street, Suite 330, Loveland, CO 80537 | Public Works Department, 2525 West 1st Street, Loveland, CO 80537 | http://www.msc.fema.gov/lomc | Nov. 16, 2017 | 080103
Larimer | Town of Johnstown (16-08-1159P) | The Honorable Scott James, Mayor, Town of Johnstown, 450 South Parish Avenue, Johnstown, CO 80534 | Town Hall, 450 South Parish Avenue, Johnstown, CO 80534 | http://www.msc.fema.gov/lomc | Nov. 16, 2017 | 080250
Larimer | Unincorporated areas of Larimer County (16-08-1159P) | The Honorable Lew Gaiter III, Chairman, Larimer County Board of Commissioners, P.O. Box 1190, Fort Collins, CO 80522 | Larimer County Courthouse, 200 West Oak Street, Suite 3000, Fort Collins, CO 80521 | http://www.msc.fema.gov/lomc | Nov. 16, 2017 | 080101
Larimer | Unincorporated areas of Larimer County (17-08-0075P) | The Honorable Lew Gaiter III, Chairman, Larimer County Board of Commissioners, P.O. Box 1190, Fort Collins, CO 80522 | Larimer County Courthouse, 200 West Oak Street, Suite 3000, Fort Collins, CO 80521 | http://www.msc.fema.gov/lomc | Nov. 24, 2017 | 080101
Florida:
Broward | City of Plantation (17-04-1665P) | The Honorable Diane Veltri Bendekovic, Mayor, City of Plantation, 400 Northwest 73rd Avenue, Plantation, FL 33317 | Engineering Department, 401 Northwest 70th Terrace, Plantation, FL 33317 | http://www.msc.fema.gov/lomc | Dec. 1, 2017 | 120054
Broward | Unincorporated areas of Broward County (17-04-1665P) | The Honorable Barbara Sharief, Mayor, Broward County Board of Commissioners, 115 South Andrews Avenue, Room 437C, Fort Lauderdale, FL 33301 | Broward County Environmental Engineering and Permitting Division, 1 North University Drive, Fort Lauderdale, FL 33324 | http://www.msc.fema.gov/lomc | Dec. 1, 2017 | 125093
Dixie | Town of Horseshoe Beach (17-04-5093P) | The Honorable Talmadge Bennett, Mayor, Town of Horseshoe Beach, P.O. Box 86, Horseshoe Beach, FL 32648 | Town Hall, 18 5th Avenue East, Horseshoe Beach, FL 32648 | http://www.msc.fema.gov/lomc | Dec. 1, 2017 | 120329
Dixie | Unincorporated areas of Dixie County (17-04-5093P) | The Honorable Jason Holifield, Chairman, Dixie County Board of Commissioners, 214 Northeast Highway 351, Cross City, FL 32628 | Dixie County Building and Zoning Department, 405 Southeast 22nd Avenue, Cross City, FL 32628 | http://www.msc.fema.gov/lomc | Dec. 1, 2017 | 120336
Duval | City of Jacksonville (17-04-4095P) | The Honorable Lenny Curry, Mayor, City of Jacksonville, 117 West Duval Street, Suite 400, Jacksonville, FL 32202 | Development Services Division, 214 North Hogan Street, Suite 2100, Jacksonville, FL 32202 | http://www.msc.fema.gov/lomc | Nov. 21, 2017 | 120077
Escambia | Unincorporated areas of Escambia County (17-04-5219P) | The Honorable Doug Underhill, Chairman, Escambia County Board of Commissioners, 221 Palafox Place, Suite 400, Pensacola, FL 32502 | Escambia County Planning and Zoning Department, 3363 West Park Place, Pensacola, FL 32505 | http://www.msc.fema.gov/lomc | Dec. 1, 2017 | 120080
Lee | City of Sanibel (17-04-4540P) | The Honorable Kevin Ruane, Mayor, City of Sanibel, 800 Dunlop Road, Sanibel, FL 33957 | Planning and Code Enforcement Department, 800 Dunlop Road, Sanibel, FL 33957 | http://www.msc.fema.gov/lomc | Nov. 24, 2017 | 120402
Lee | Town of Fort Myers Beach (17-04-3444P) | The Honorable Dennis C. Boback, Mayor, Town of Fort Myers Beach, 2525 Estero Boulevard, Fort Myers Beach, FL 33931 | Community Development Department, 2525 Estero Boulevard, Fort Myers Beach, FL 33931 | http://www.msc.fema.gov/lomc | Dec. 4, 2017 | 120673
Monroe | Village of Islamorada (17-04-4163P) | The Honorable Jim Mooney, Mayor, Village of Islamorada, 86800 Overseas Highway, Islamorada, FL 33036 | Planning and Development Department, 86800 Overseas Highway, Islamorada, FL 33036 | http://www.msc.fema.gov/lomc | Dec. 1, 2017 | 120424
Georgia:
Cobb | City of Kennesaw (17-04-0127P) | The Honorable Derek Easterling, Mayor, City of Kennesaw, 2529 J.O. Stephenson Street, Kennesaw, GA 30144 | Stormwater Division, 3080 Moon Station Road, Kennesaw, GA 30144 | http://www.msc.fema.gov/lomc | Dec. 4, 2017 | 130055
Cobb | Unincorporated areas of Cobb County (17-04-0127P) | The Honorable Mike Boyce, Chairman, Cobb County Board of Commissioners, 100 Cherokee Street, Marietta, GA 30090 | Cobb County Stormwater Management Division, 680 South Cobb Drive, Marietta, GA 30060 | http://www.msc.fema.gov/lomc | Dec. 4, 2017 | 130052
Columbia | Unincorporated areas of Columbia County (17-04-2730P) | The Honorable Ron C. Cross, Chairman, Columbia County Board of Commissioners, P.O. Box 498, Evans, GA 30809 | Columbia County Engineering Services Division, 630 Ronald Reagan Drive, Building A, East Wing, Evans, GA 30809 | http://www.msc.fema.gov/lomc | Nov. 2, 2017 | 130059
Mississippi:
Lamar | Unincorporated areas of Lamar County (17-04-3862P) | The Honorable Joe Bounds, President, Lamar County Board of Supervisors, P.O. Box 1240, Purvis, MS 39475 | Lamar County Planning Department, 144 Shelby Speights Drive, Purvis, MS 39475 | http://www.msc.fema.gov/lomc | Nov. 10, 2017 | 280304
Panola | City of Batesville (17-04-0231P) | The Honorable Jerry Autrey, Mayor, City of Batesville, P.O. Box 689, Batesville, MS 38606 | City Hall, 103 College Street, Batesville, MS 38606 | http://www.msc.fema.gov/lomc | Nov. 6, 2017 | 280126
Panola | Unincorporated areas of Panola County (17-04-0231P) | The Honorable Cole Flint, President, Panola County Board of Supervisors, 151 Public Square, Batesville, MS 38606 | Panola County Building Department, 245 Eureka Street, Batesville, MS 38606 | http://www.msc.fema.gov/lomc | Nov. 6, 2017 | 280125
Montana: Gallatin | Unincorporated areas of Gallatin County (17-08-0448P) | The Honorable Don Seifert, Chairman, Gallatin County Board of Commissioners, 311 West Main Street, Room 306, Bozeman, MT 59715 | Gallatin County Planning Department, 311 West Main Street, Room 108, Bozeman, MT 59715 | http://www.msc.fema.gov/lomc | Dec. 1, 2017 | 300027
New Hampshire: Rockingham | Town of Plaistow (16-01-2739P) | The Honorable Mark Pearson, Manager, Town of Plaistow, 145 Main Street, Plaistow, NH 03865 | Planning Department, 145 Main Street, Plaistow, NH 03865 | http://www.msc.fema.gov/lomc | Nov. 29, 2017 | 330138
New Mexico: Bernalillo | Unincorporated areas of Bernalillo County (17-06-0728P) | The Honorable Debbie O'Malley, Chair, Bernalillo County Board of Commissioners, 1 Civic Plaza Northwest, Albuquerque, NM 87102 | Bernalillo County Public Works Division, 2400 Broadway Boulevard Southeast, Albuquerque, NM 87102 | http://www.msc.fema.gov/lomc | Nov. 30, 2017 | 350001
North Carolina:
Buncombe | City of Asheville (17-04-2394P) | The Honorable Esther E. Manheimer, Mayor, City of Asheville, P.O. Box 7148, Asheville, NC 28802 | Public Works Department, 161 South Charlotte Street, Asheville, NC 28802 | http://www.msc.fema.gov/lomc | Nov. 6, 2017 | 370032
Buncombe | Unincorporated areas of Buncombe County (17-04-2394P) | The Honorable Brownie Newman, Chairman, Buncombe County Board of Commissioners, 200 College Street, Suite 300, Ashville, NC 28801 | Buncombe County Planning and Development Department, 46 Valley Street, Asheville, NC 28801 | http://www.msc.fema.gov/lomc | Nov. 6, 2017 | 370031
Gaston | City of Gastonia (17-04-3783P) | The Honorable John Bridgeman, Mayor, City of Gastonia, P.O. Box 1748, Gastonia, NC 28053 | Garland County Municipal Business Center, 150 South York Street, Gastonia, NC 28052 | http://www.msc.fema.gov/lomc | Nov. 13, 2017 | 370100
South Carolina:
Berkeley | Unincorporated areas of Berkeley County (17-04-1961P) | The Honorable William W. Peagler, III, Chairman, Berkeley County Council, P.O. Box 6122, Moncks Corner, SC 29461 | Berkeley County Planning and Zoning Department, 1003 Highway 52, Moncks Corner, SC 29461 | http://www.msc.fema.gov/lomc | Nov. 24, 2017 | 450029
Charleston | Town of Mount Pleasant (17-04-2666P) | The Honorable Linda Page, Mayor, Town of Mount Pleasant, 100 Ann Edwards Lane, Mount Pleasant, SC 29464 | Planning and Development Department, 100 Ann Edwards Lane, Mount Pleasant, SC 29464 | http://www.msc.fema.gov/lomc | Nov. 20, 2017 | 455417
Charleston | Unincorporated areas of Charleston County (17-04-2666P) | The Honorable J. Elliott Summey, Chairman, Charleston County Council, 4045 Bridgeview Drive, Suite B254, North Charleston, SC 29405 | Charleston County Building Inspection Services Department, 4045 Bridgeview Drive, North Charleston, SC 29405 | http://www.msc.fema.gov/lomc | Nov. 20, 2017 | 455413
Dorchester | Unincorporated areas of Dorchester County (16-04-8178X) | The Honorable Jay Byars, Chairman, Dorchester County Council, 500 North Main Street, Summerville, SC 29483 | Dorchester County Building Services Division, 500 North Main Street, Summerville, SC 29483 | http://www.msc.fema.gov/lomc | Oct. 19, 2017 | 450068
South Dakota:
Grant | City of Milbank (16-08-1274P) | The Honorable Pat Raffety, Mayor, City of Milbank, 1001 East 4th Avenue, Suite 301, Milbank, SD 57252 | City Hall, 1001 East 4th Avenue, Milbank, SD 57252 | http://www.msc.fema.gov/lomc | Nov. 16, 2017 | 460200
Grant | Unincorporated areas of Grant County (16-08-1274P) | The Honorable Michael J. Mach, Chairman, Grant County, Board of Commissioners, 1001 South 2nd Street, Milbank, SD 57252 | Grant County Courthouse, 210 East 5th Avenue, Milbank, SD 57252 | http://www.msc.fema.gov/lomc | Nov. 16, 2017 | 460266
Pennington | City of Rapid City (16-08-1374P) | The Honorable Steve Allender, Mayor, City of Rapid City, 300 6th Street, Rapid City, SD 57701 | Public Works Department, Engineering Services Division, 300 6th Street, Rapid City, SD 57701 | http://www.msc.fema.gov/lomc | Oct. 20, 2017 | 465420
Texas:
Bandera | Unincorporated areas of Bandera County (17-06-0498P) | The Honorable Richard Evans, Bandera County Judge, P.O. Box 877, Bandera, TX 78003 | Bandera County Engineering Department, 502 11th Street, Bandera, TX 78003 | http://www.msc.fema.gov/lomc | Nov. 9, 2017 | 480020
Bexar | City of San Antonio (16-06-3842P) | The Honorable Ron Nirenberg, Mayor, City of San Antonio, P.O. Box 839966, San Antonio, TX 78283 | Transportation and Capital Improvements Department, Storm Water Division, 1901 South Alamo Street, 2nd Floor, San Antonio, TX 78204 | http://www.msc.fema.gov/lomc | Nov. 22, 2017 | 480045
Bexar | City of San Antonio (17-06-0569P) | The Honorable Ron Nirenberg, Mayor, City of San Antonio, P.O. Box 839966, San Antonio, TX 78283 | Transportation and Capital Improvements Department, Stormwater Division, 1901 South Alamo Street, 2nd Floor, San Antonio, TX 78204 | http://www.msc.fema.gov/lomc | Nov. 22, 2017 | 480045
Bexar | Unincorporated areas of Bexar County (17-06-2326P) | The Honorable Nelson W. Wolff, Bexar County Judge, 101 West Nueva Street, 10th Floor, San Antonio, TX 78205 | Bexar County Public Works Department, 233 North Pecos-La Trinidad Street, Suite 420, San Antonio, TX 78204 | http://www.msc.fema.gov/lomc | Nov. 27, 2017 | 480035
Collin | Unincorporated areas of Collin County (17-06-0646P) | The Honorable Keith Self, Collin County Judge, 2300 Bloomdale Road, Suite 4192, McKinney, TX 75071 | Collin County Engineering Department, 4690 Community Avenue, Suite 200, McKinney, TX 75071 | http://www.msc.fema.gov/lomc | Nov. 20, 2017 | 480130
Fort Bend | Unincorporated areas of Fort Bend County (17-06-0120P) | The Honorable Robert Hebert, Fort Bend County Judge, 401 Jackson Street, Richmond, TX 77469 | Fort Bend County Engineering Department, 401 Jackson Street, Richmond, TX 77469 | http://www.msc.fema.gov/lomc | Nov. 24, 2017 | 480228
Harris | City of Baytown (17-06-2837P) | The Honorable Stephen DonCarlos, Mayor, City of Baytown, 2401 Market Street, Baytown, TX 77520 | Engineering Department, 2123 Market Street, Baytown, TX 77520 | http://www.msc.fema.gov/lomc | Dec. 8, 2017 | 485456
Kendall | Unincorporated areas of Kendall County (17-06-0696P) | The Honorable Darrel L. Lux, Kendall County Judge, 201 East San Antonio Avenue, Suite 122, Boerne, TX 78006 | Kendall County Development and Floodplain Management Department, 201 East San Antonio Avenue, Suite 101, Boerne, TX 78006 | http://www.msc.fema.gov/lomc | Nov. 13, 2017 | 480417
Montgomery | Unincorporated areas of Montgomery County (17-06-0033P) | The Honorable Craig B. Doyal, Montgomery County Judge, 501 North Thompson, Suite 401, Conroe, TX 77301 | Montgomery County Engineering Department, 501 North Thompson, Suite 103, Conroe, TX 77301 | http://www.msc.fema.gov/lomc | Nov. 10, 2017 | 480483
Tarrant | City of Fort Worth (17-06-0459P) | The Honorable Betsy Price, Mayor, City of Fort Worth, 200 Texas Street, Fort Worth, TX 76102 | Transportation and Public Works Department, 200 Texas Street, Fort Worth, TX 76102 | http://www.msc.fema.gov/lomc | Nov. 17, 2017 | 480596
Tarrant | City of Fort Worth (17-06-0497P) | The Honorable Betsy Price, Mayor, City of Fort Worth, 200 Texas Street, Fort Worth, TX 76102 | Transportation and Public Works Department, 200 Texas Street, Fort Worth, TX 76102 | http://www.msc.fema.gov/lomc | Dec. 1, 2017 | 480596
Tarrant | City of Fort Worth (17-06-0575P) | The Honorable Betsy Price, Mayor, City of Fort Worth, 200 Texas Street, Fort Worth, TX 76102 | Transportation and Public Works Department, 200 Texas Street, Fort Worth, TX 76102 | http://www.msc.fema.gov/lomc | Nov. 10, 2017 | 480596
Utah:
Davis | City of Farmington (17-08-0203P) | The Honorable Jim Talbot, Mayor, City of Farmington, 160 South Main Street, Farmington, UT 84025 | City Hall, 160 South Main Street, Farmington, UT 84025 | http://www.msc.fema.gov/lomc | Nov. 24, 2017 | 490044
Washington | City of Hurricane (17-08-0479P) | The Honorable John W. Bramall, Mayor, City of Hurricane, 147 North 870 West, Hurricane, UT 84737 | Planning and Zoning Department, 147 North 870 West, Hurricane, UT 84737 | http://www.msc.fema.gov/lomc | Nov. 30, 2017 | 490172

[FR Doc. 2017-20585 Filed 9-25-17; 8:45 am]

BILLING CODE 9110-12-P